DEPARTMENT OF COMMERCE

Foreign-Trade Zones Board

[Docket 50-2002]

Foreign-Trade Zone No. 2, Application for Expansion, Amendment of Application

Notice is hereby given that the application of the Board of Commissioners of the Port of New Orleans (the Port), grantee of FTZ 2, for authority to expand FTZ 2 in the New Orleans, Louisiana area (Doc. 50-2002, 67 FR 70047, 11/20/02), has been amended to include 3 new parcels (6 acres total) located at 1883 Tchoupitoulas Street (2 acres), 2311 Tchoupitoulas Street (2 acres), and 2940 Royal Street (2 acres) New Orleans, Louisiana. The new parcels will be designated as Site 5—Parcels 33, 34, and 35, respectively, and will be operated by Port Cargo Services, Inc. The application otherwise remains unchanged.

Comments on the change may be submitted to the Foreign-Trade-Zones Board, U.S. Department of Commerce, FCB—Suite 4100W, 1401 Constitution Ave., NW., Washington, DC 20230, by February 18, 2003.

Dated: January 22, 2003.
Dennis Puccinelli,
Executive Secretary.

[FR Doc. 03-2439 Filed 1-31-03; 8:45 am]

BILLING CODE 3510-DS-P